DEPARTMENT OF STATE

[Public Notice: 11413]

Notice of Department of State Sanctions Actions Reimposing Certain Sanctions With Respect to Iran

SUMMARY: On January 23, 2020, Secretary of State Michael R. Pompeo imposed sanctions on three entities and two individuals pursuant to E.O. 13846, Reimposing Certain Sanctions With Respect to Iran.

DATES: The Secretary of State's determination and selection of certain sanctions to be imposed upon the three entities and two individuals identified in the SUPPLEMENTARY INFORMATION section were effective as of January 23, 2020.

FOR FURTHER INFORMATION CONTACT: Taylor Ruggles, Director, Office of Economic Sanctions Policy and Implementation, Bureau of Economic and Business Affairs, Department of State, Washington, DC 20520, tel.: (202) 647 7677, email: RugglesTV@state.gov.

SUPPLEMENTARY INFORMATION: Pursuant to Section 3(a) of E.O. 13846, the Secretary of State, in consultation with the Secretary of the Treasury, the Secretary of Commerce, the Secretary of Homeland Security, and the United States Trade Representative, and with the President of the Export-Import Bank, the Chairman of the Board of Governors of the Federal Reserve System, and other agencies and officials as appropriate, is authorized to impose on a person any of the sanctions described in sections 4 or 5 of E.O. 13846 upon determining that the person met any of the criteria set forth in sections 3(a)(i)-3(a)(vi) of E.O. 13846.

The Secretary of State has determined, pursuant to Section 3(a)(iii) of E.O. 13846, that each of Triliance Petrochemical, Shandong Qiwangda Petrochemical Co., Ltd. and Jiaxiang Industry Hong Kong Limited, have knowingly, on or after November 5, 2018, engaged in a significant transaction for the purchase, acquisition, sale, transport, or marketing of petrochemical products from Iran.

Pursuant to Section 5(a) of E.O. 13846, the Secretary of State has selected the following sanctions to be imposed upon Triliance Petrochemical, Shandong Qiwangda Petrochemical Co., Ltd. and Jiaxiang Industry Hong Kong Limited:

Prohibit any transactions in foreign exchange that are subject to the jurisdiction of the United States and in which the entities have any interest;

Prohibit any transfers of credit or payments between financial institutions or by, through, or to any financial institution, to the extent that such transfers or payments are subject to the jurisdiction of the United States and involve any interest of the entities;

Block all property and interests in property that are in the United States, that hereafter come within the United States, or that are or hereafter come within the possession or control of any United States person of the entities, and provide that such property and interests in property may not be transferred, paid, exported, withdrawn, or otherwise dealt in;

Prohibit any United States person from investing in or purchasing significant amounts of equity or debt instruments of the entities;

Restrict or prohibit imports of goods, technology, or services, directly or indirectly, into the United States from the entities; and

Impose on the principal executive officer or officers, or persons performing similar functions and with similar authorities, of the entities the sanctions described in sections 5(a)(ii)-5(a)(iv) and 5(a)(vi) of E.O. 13846.

Pursuant to Section 5(a) of E.O. 13846, the Secretary of State has selected the following sanctions to be imposed upon Ali Bayandarian, Triliance Petrochemical's Director; and Zhiqing Wang, Shandong Qiwangda Petrochemical Co., Ltd.'s Director; each of whom as been determined to be a principal executive officer of the aforementioned entities, or performing similar functions with similar authorities as a principal executive officer:

Prohibit any transactions in foreign exchange that are subject to the jurisdiction of the United States and in which Ali Bayandarian and Zhiqing Wang have any interest;

Prohibit any transfers of credit or payments between financial institutions or by, through, or to any financial institution, to the extent that such transfers or payments are subject to the jurisdiction of the United States and involve any interest of Ali Bayandarian and Zhiqing Wang;

Block all property and interests in property of Ali Bayandarian and Zhiqing Wang that are in the United States, that hereafter come within the United States, or that are or hereafter come within the possession or control of any United States person, and provide that such property and interests in property may not be transferred, paid, exported, withdrawn, or otherwise dealt in; and

Restrict or prohibit imports of goods, technology, or services, directly or indirectly, into the United States from Ali Bayandarian and Zhiqing Wang.

Additionally, pursuant to Section 4(e) of E.O. 13846, the Secretary of State shall deny a visa to, and the Secretary of Homeland Security shall exclude from the United States, any alien that the Secretary of State determines is a corporate officer or principal of, or a shareholder with a controlling interest in, a sanctioned person subject to this action.

Peter Haas,
Acting Assistant Secretary, Bureau of Economic and Business Affairs, Department of State.

[FR Doc. 2021-08642 Filed 4-23-21; 8:45 am]

BILLING CODE 4710-AE-P